DEPARTMENT OF COMMERCE

International Trade Administration

[A-570-904]

Certain Activated Carbon From the People's Republic of China; 2010-2011; Final Results of Antidumping Duty Administrative Review

AGENCY: Import Administration, International Trade Administration, Department of Commerce.

SUMMARY: The Department of Commerce (“the Department”) published its Preliminary Results of the antidumping duty order on certain activated carbon from the People's Republic of China (“PRC”) on May 4, 2012,¹ and we gave interested parties an opportunity to comment on the Preliminary Results. Based upon our analysis of the comments and information received, we made changes to the margin calculations for these final results and partial rescission of antidumping duty administrative review. The final dumping margins are listed below in the “Final Results of the Reviews” section of this notice. The period of review (“POR”) is April 1, 2010, through March 31, 2011.

¹ See Certain Activated Carbon From the People's Republic of China: Preliminary Results of the Fourth Antidumping Duty Administrative Review, and Intent To Rescind in Part, 77 FR 26496 (May 4, 2012) (“Preliminary Results”).

DATES: Effective Date: November 9, 2012.

FOR FURTHER INFORMATION CONTACT: Alan Ray, Javier Barrientos, or Emeka Chukwudebe, AD/CVD Operations, Office 9, Import Administration, International Trade Administration, U.S. Department of Commerce, 14th Street and Constitution Avenue NW., Washington, DC 20230; telephone: (202) 482-5403, (202) 482-2243, or (202) 482-0219, respectively.

SUPPLEMENTARY INFORMATION:

Background

The Department published the Preliminary Results on May 4, 2012.² The period of review (“POR”) is April 1, 2010, through March 31, 2011.³ In accordance with 19 CFR 351.309(c)(1)(ii), we invited parties to comment on our Preliminary Results.⁴ On June 13, 2012, we received case briefs from Cherishmet, DJAC, Jacobi, CAC, Bright Future, and Shanxi DMD.⁵ On June 22, 2012, we received rebuttal briefs from Petitioners and Cherishmet.⁶

² See id.

³ See id. at 26497.

⁴ See id. at 26506.

⁵ Beijing Pacific Activated Carbon Products Co., Ltd., Ningxia Guanghua Cherishmet Activated Carbon Co., Ltd., Ningxia Guanghua Activated Carbon Co., Ltd., (collectively, “Cherishmet”); Datong Juqiang Activated Carbon Co., Ltd. (“DJAC”); Jacobi Carbons AB and its affiliates, Tianjin Jacobi International Trading Co. Ltd., Jacobi Carbons Industry (Tianjin) Co., Ltd., and Jacobi Carbons, Inc. (collectively, “Jacobi”); Calgon Carbon Corp (“CAC”); Jilin Bright Future Chemicals Co., Ltd. (“Bright Future”); and Shanxi DMD Corporation (“Shanxi DMD”).

⁶ See Petitioners' Rebuttal Brief, dated June 22, 2012 and Cherishmet's Rebuttal Brief, dated June 22, 2012.

Scope of the Order

The merchandise subject to the order is certain activated carbon.⁷ The products are currently classifiable under the Harmonized Tariff Schedule of the United States (“HTSUS”) subheading 3802.10.00. Although the HTSUS subheading is provided for convenience and customs purposes, the written description of the scope of the order remains dispositive.⁸

⁷ See Certain Activated Carbon from the People's Republic of China: Issues and Decision Memorandum for the Final Results of the Fourth Antidumping Duty Administrative Review,” dated concurrently with this notice for a complete description of the Scope of the Order.

⁸ See Notice of Antidumping Duty Order: Certain Activated Carbon from the People's Republic of China, 72 FR 20988 (April 27, 2007).

Analysis of Comments Received

All issues raised in the case and rebuttal briefs by parties are addressed in the “Certain Activated Carbon from the People's Republic of China: Issues and Decision Memorandum for the Final Results of the Fourth Antidumping Duty Administrative Review,” dated concurrently with this notice (“Issues & Decision Memo”). A list of the issues which parties raised is attached to this notice as Appendix I. The Issues & Decision Memo is a public document and is on file in the Central Records Unit (“CRU”), Room 7046 of the main Department of Commerce building, as well as electronically via Import Administration's Antidumping and Countervailing Duty Centralized Electronic Service System (“IA ACCESS”). IA ACCESS is available to registered users at http://iaaccess.trade.gov and in the CRU. In addition, a complete version of the Issues & Decision Memo can be accessed directly on the internet at http://www.trade.gov/ia/. The signed Issues & Decision Memo and the electronic version of the Issues & Decision Memo are identical in content.

Final Partial Rescission

In the Preliminary Results, the Department preliminarily rescinded the review with respect to Shanxi Dapu International Trade Co., Ltd. (“Dapu”). This company reported that it had no shipments of subject merchandise to the United States during the POR, and our examination of shipment data from U.S. Customs and Border Protection (“CBP”) confirmed that there were no entries of subject merchandise made by this company during the POR.⁹ Subsequent to the Preliminary Results, the Department did not receive any comments or information indicating that Dapu made sales of subject merchandise to the United States during the POR. Therefore, pursuant to 19 CFR 351.213(d)(3), we are rescinding the administrative review with respect to Dapu.

⁹ See Preliminary Results, 77 FR at 26498.

Changes Since the Preliminary Results

Based on a review of the record and comments received from interested parties regarding our Preliminary Results, we have made certain revisions to the margin calculations for Jacobi, DJAC, and Cherishmet. For the reasons explained in the Issues & Decision Memo at Comment I, we have selected the Philippines as the primary surrogate country. We have also made other changes to the margin calculations of Cherishmet, DJAC, and Jacobi.¹⁰ Finally, the Surrogate Values Memo contains the further explanation of our changes to the surrogate values.¹¹

¹⁰ See Comments II to VI of the Issues and Decision Memo and the company-specific analysis memoranda.

¹¹ See Memorandum to the File, through Matthew Renkey, Acting Program Manager, AC/CVD Operations, Office 9, from Javier Barrientos, Senior Case Analyst, Alan Ray, Senior Case Analyst, and Emeka Chukwudebe, Case Analyst, AD/CVD Operations, Office 9, Certain Activated Carbon from the People's Republic of China (“PRC”): Surrogate Values for the Final Results,” (October 31, 2012).

Separate Rates

In our Preliminary Results, we determined that the following companies met the criteria for separate rate status: Bright Future; Datong Municipal Yunguang Activated Carbon Co., Ltd.; Ningxia Mineral; Shanxi Sincere Industrial Co., Ltd.; Shanxi Industry Technology Trading Co., Ltd.; Tangshan Solid; and Tianjin Maijin Industries Co., Ltd.¹² We have not received any information since the issuance of the Preliminary Results that provides a basis for reconsideration of these determinations. Therefore, the Department continues to find that the companies listed above meet the criteria for a separate rate.

¹² See Preliminary Results at 77 FR 26496.

Additionally, in the Preliminary Results, we also noted that CBP data reviewed by the Department does not show any reviewable entries of subject merchandise made during the POR by the third-country exporter, Adsorbent,¹³ an Indian activated carbon company. For these final results, we continue to find that the CBP data does not show any reviewable entries of subject merchandise made by Adsorbent during the POR and intend to refer this matter to CBP to investigate whether Adsorbent's entries were entered properly.

¹³ Adsorbent Carbons Pvt. Ltd., (“Adsorbent”).

Rate for Non-Selected Companies

In the Preliminary Results, and consistent with the Department's practice,¹⁴ we assigned the separate rate companies a rate calculated using the ranged total sales quantities of the individually-reviewed respondents with margins above de minimis from the public versions of their submissions.¹⁵ For the final results, we continue to find this approach to be consistent with the intent of section 735(c)(5)(A) of the Act and our use of section 735(c)(5)(A) of the Act as guidance when we establish the rate for respondents not examined individually in an administrative review.¹⁶ See Decision Memo at Comment 3.

¹⁴ See Certain Frozen Warmwater Shrimp From the Socialist Republic of Vietnam: Final Results and Final Partial Rescission of Antidumping Duty Administrative Review, 76 FR 56158, 56160 (September 12, 2011) (“Vietnam Shrimp”); see also Galvanized Steel Wire From the People's Republic of China: Preliminary Determination of Sales at Less Than Fair Value and Postponement of Final Determination, 77 FR 68407, 68415 (November 4, 2011) (“Galvanized Wire LTFV”).

¹⁵ See Jacobi Section A questionnaire response (Public Version) dated September 13, 2011, at Exhibit 4; see also Guanghua Cherishmet Public Version of Exhibit SA-1 for the Section A Response, dated August 19, 2011.

¹⁶ See Vietnam Shrimp, 76 FR at 56160; see also Galvanized Wire LTFV, 77 FR at 68415.

Because the calculated net U.S. sales values for the individually-reviewed respondents with margins above de minimis are business-proprietary figures, we find that 1.04 U.S. Dollars/kilogram (“USD/kg”), which we calculated using the publicly available figures of U.S. sales quantities for these firms, is the best reasonable proxy for the weighted-average margin based on the calculated U.S. sales quantities of these respondents.¹⁷

¹⁷ See “Memorandum to the File from Alan Ray, Case Analyst, Office 9, AD/CVD Operations, Re: Calculation of Separate Rate,” dated concurrently with this notice.

PRC-Wide Rate and PRC-Wide Entity

The Department used the PRC-Wide rate of 2.42 USD/kg in the most recently completed administrative review of this antidumping order.¹⁸ Because we have not calculated a PRC-Wide rate greater than the PRC-Wide rate from previous reviews in this proceeding and nothing on the record of the instant review calls into question the reliability of the PRC-Wide rate, we find it appropriate to continue to apply the PRC-Wide rate of 2.42 USD/kg for the final results.¹⁹

¹⁸ See Certain Activated Carbon From the People's Republic of China: Final Results and Partial Rescission of Third Antidumping Duty Administrative Review, 76 FR 67142, 67145 (October 31, 2011).

¹⁹ See Administrative Review of Certain Frozen Warmwater Shrimp From the People's Republic of China: Final Results and Partial Rescission of Antidumping Duty Administrative Review, 76 FR 51940, 51942 (August 19, 2011) (where the Department used the PRC-Wide rate from the previous review).

In the Preliminary Results, the Department determined that those companies which did not demonstrate eligibility for a separate rate are properly considered part of the PRC-wide entity.²⁰ Since the Preliminary Results, none of the companies which did not file separate rate applications or certifications submitted comments regarding these findings. Therefore, we continue to treat these entities as part of the PRC-wide entity.

²⁰ The PRC-Wide entity includes Hebei Foreign Trade and Advertising Corporation; Jilin Province Bright Future Industry and Commerce Co., Ltd.; and United Manufacturing International (Beijing) Ltd. See Preliminary Results, 77 FR at 26501.

Final Results of the Review

The dumping margins for the POR are as follows:

²¹ In the second administrative review of this order, the Department determined that it would calculate per-unit assessment and cash deposit rates for all future reviews. See Certain Activated Carbon From the People's Republic of China: Final Results and Partial Rescission of Second Antidumping Duty Administrative Review, 75 FR 70208, 70210 (November 17, 2010).

²² In Activated Carbon AR3, the Department found Jacobi Carbons AB, Tianjin Jacobi International Trading Co. Ltd., and Jacobi Carbons Industry (Tianjin) are a single entity and, because there has been no change to this determination since the first administrative review, we continue to find these companies to be part of a single entity. Therefore, we will assign this rate to the companies in the single entity. See Certain Activated Carbon From the People's Republic of China: Final Results and Partial Rescission of the Third Antidumping Duty Administrative Review, 76 FR 67142, 67145 n.25 (October 31, 2011) (“Activated Carbon AR3”).

²³ In Activated Carbon AR1, the Department found Beijing Pacific Activated Carbon Products Co., Ltd., Ningxia Guanghua Cherishmet Activated Carbon Co., Ltd., and Ningxia Guanghua Activated Carbon Co., Ltd. are a single entity and, because there has been no change to this determination since the first administrative review, we continue to find these companies to be part of a single entity. Therefore, we will assign this rate to the companies in the single entity. See Certain Activated Carbon From the People's Republic of China: Notice of Preliminary Results of the Antidumping Duty Administrative Review and Extension of Time Limits for the Final Results, 74 FR 21317 (May 7, 2009), unchanged in First Administrative Review of Certain Activated Carbon from the People's Republic of China: Final Results of Antidumping Duty Administrative Review, 74 FR 57995, 57996 n.2 (November 10, 2009).

²⁴ As discussed above in this notice, the PRC-Wide entity includes Hebei Foreign Trade and Advertising Corporation; Jilin Province Bright Future Industry and Commerce Co., Ltd.; and United Manufacturing International (Beijing) Ltd.

Exporter | Margin (dollars per kilogram) ²¹
Datong Juqiang Activated Carbon Co., Ltd. | 0.00
Jacobi Carbons AB ²² | 0.44
Ningxia Guanghua Cherishmet Activated Carbon Co., Ltd.²³ | 2.11
Datong Municipal Yunguang Activated Carbon Co., Ltd. | 1.04
Jilin Bright Future Chemicals Company, Ltd. | 1.04
Ningxia Mineral and Chemical Limited | 1.04
Shanxi DMD Corporation | 1.04
Shanxi Sincere Industrial Co., Ltd. | 1.04
Shanxi Industry Technology Trading Co., Ltd. | 1.04
Tangshan Solid Carbon Co., Ltd. | 1.04
Tianjin Maijin Industries Co., Ltd. | 1.04
PRC-Wide Rate ²⁴ | 2.42

Assessment Rates

Pursuant to section 751(a)(2)(A) of the Act and 19 CFR 351.212(b), the Department will determine, and CBP shall assess, antidumping duties on all appropriate entries of subject merchandise in accordance with the final results of this review. The Department intends to issue appropriate assessment instructions directly to CBP 15 days after publication of the final results of this administrative review.

For assessment purposes, we calculated importer (or customer)-specific assessment rates for merchandise subject to this review. As the Department stated in the most recent administrative review,²⁵ we will continue to direct CBP to assess importer-specific assessment rates based on the resulting per-unit (i.e., per-kilogram) rates by the weight in kilograms of each entry of the subject merchandise during the POR. Specifically, we calculated importer-specific duty assessment rates on a per-unit rate basis by dividing the total dumping margins (calculated as the difference between normal value and export price or constructed export price) for each importer by the total sales quantity of subject merchandise sold to that importer during the POR. If an importer (or customer)-specific assessment rate is de minimis (i.e., less than 0.50 percent), the Department will instruct CBP to assess that importer (or customer's) entries of subject merchandise without regard to antidumping duties, in accordance with 19 CFR 351.106(c)(2).

²⁵ Activated Carbon AR3, 76 FR at 67145.

Cash Deposit Requirements

The following cash deposit requirements will be effective upon publication of the final results of this administrative review for all shipments of the subject merchandise from the PRC entered, or withdrawn from warehouse, for consumption on or after the publication date, as provided by section 751(a)(2)(C) of the Act: (1) For Jacobi, DJAC, Cherishmet, and the Separate Rate Respondents, the cash deposit rate will be their respective rates established in the final results of this review, except if the rate is zero or de minimis no cash deposit will be required; (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of $2.42 per kilogram; and (4) for all non-PRC exporters of subject merchandise which have not received their own rate, the cash deposit rate will be the rate applicable to the PRC exporters that supplied that non-PRC exporter. These deposit requirements, when imposed, shall remain in effect until further notice.

Disclosure

We will disclose the calculations performed within five days of the date of publication of this notice to parties in this proceeding in accordance with 19 CFR 351.224(b).

Notification to Importers Regarding The Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: November 2, 2012.
Paul Piquado,
Assistant Secretary for Import Administration.

Appendix I—Issues & Decision Memorandum

General Issues

COMMENT I: SELECTION OF SURROGATE COUNTRY

A. Economic Comparability

B. Significant Producer of the Comparable Merchandise

C. Data Considerations

A. Anthracite Coal

B. Bituminous Coal

C. Carbonized Material

D. Hydrochloric Acid

E. Labor

F. Financial Ratios

COMMENT II: CALCULATION OF THE SEPARATE RATE

COMMENT III: MISCELLANEOUS SURROGATE VALUES

A. ELECTRICITY

B. SALT

C. BUCKLES

COMMENT IV: PER-UNIT ASSESSMENT/DUTY ABSORPTION

Company-Specific Issues

COMMENT V: VALUATION OF JACOBI'S CONSUMPTION OF BITUMINOUS COAL FOR HEATING

COMMENT VI: VALUATION OF JACOBI'S CONSUMPTION OF STEAM COAL INPUT

COMMENT VII: CALCULATION OF FREIGHT FOR CERTAIN PACKING INPUTS

COMMENT VIII: CALCULATION OF JACOBI'S TRANSPORT BAGS IN NORMAL VALUE

COMMENT IX: DO NOT USE AN ADJUSTMENT FOR DIRECT LABOR AND ELECTRICITY FOR CHERISHMET

[FR Doc. 2012-27423 Filed 11-8-12; 8:45 am]

BILLING CODE 3510-DS-P